DEPARTMENT OF LABOR

Office of the Secretary

Submission for OMB Review: Comment Request

November 28, 2007.

The Department of Labor (DOL) hereby announces the submission the following public information collection requests (ICR) to the Office of Management and Budget (OMB) for review and approval in accordance with the Paperwork Reduction Act of 1995 (Pub. L. 104-13, 44 U.S.C. chapter 35). A copy of each ICR, with applicable supporting documentation; including among other things a description of the likely respondents, proposed frequency of response, and estimated total burden may be obtained from the RegInfo.gov Web site at http://www.reginfo.gov/public/do/PRAMain or by contacting Darrin King on 202-693-4129 (this is not a toll-free number)/e-mail: king.darrin@dol.gov.

Interested parties are encouraged to send comments to the Office of Information and Regulatory Affairs, Attn: Brenda Aguilar, OMB Desk Officer for the Employee Benefits Security Administration (EBSA), Office of Management and Budget, Room 10235, Washington, DC 20503, Telephone: 202-395-7316/Fax: 202-395-6974 (these are not toll-free numbers), E-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employee Benefits Security Administration.

Type of Review: Extension without change of currently approved collection.

Title: Notice to Participants and Beneficiaries and the Federal Government of Electing One Percent Increased Cost Exemption.

OMB Control Number: 1210-0105.

Affected Public: Private Sector: Business or other for-profit.

Estimated Number of Respondents: 10.

Estimated Total Annual Burden Hours: 300.

Estimated Total Annual Cost Burden: $7,000.

Description: Group health plans may be exempted from Mental Health Party Act of 1996 (Pub. L. 104-194) requirements for parity between mental health and medical/surgical benefits if parity would result in cost increase of one percent or more. This request pertains to notice to participants and beneficiaries and the Federal Government that is required in order to make use of the exemption. For additional information, please refer to a related notice published at 72 FR 54072 on September 21, 2007 and the interim final rule published at 62 FR 66931 on December 22, 1997.

Agency: Employee Benefits Security Administration.

Type of Review: Extension without change of currently approved collection.

Title: Calculation and Disclosure of Documentation of Eligibility for Exemption.

OMB Control Number: 1210-0106.

Affected Public: Private Sector: Business or other for-profit.

Estimated Number of Respondents: 10.

Estimated Total Annual Burden Hours: 110.

Estimated Total Annual Cost Burden: $216.

Description: The Mental Health Parity Act of 1996 (Pub. L. 104-194) requires parity between the dollar limits imposed on mental health benefits and those imposed on medical/surgical benefits offered by group health plans and issuers. Upon receipt of notice that a plan claims exemption from these requirements, participants and beneficiaries may request a summary of the information upon which the exemption was based. This request pertains to the calculation and disclosure of information on which the exemption was based. For additional information, please refer to a related notice published at 72 FR 54072 on September 21, 2007 and the interim final rule published at 62 FR 66931 on December 22, 1997.

Darrin A. King,
Acting Departmental Clearance Officer.

[FR Doc. E7-23461 Filed 12-3-07; 8:45 am]

BILLING CODE 4510-29-P